DEPARTMENT OF THE INTERIOR

Bureau of Land Management

[NM-910-00-1020-PB]

New Mexico Resource Advisory Council Meeting

AGENCY: Bureau of Land Management, Department of the Interior.

ACTION: Notice of Council Meeting.

SUMMARY: In accordance with the Federal Land Policy and Management Act and the Federal Advisory Committee Act of 1972 (FACA), 5 U.S.C. appendix 1, The Department of the Interior, Bureau of Land Management (BLM), announces a meeting of the New Mexico Resource Advisory Council (RAC). The meeting will be held on January 25 and 26, 2001, at the Holiday Inn Express Conference Center, in the Neptune Room, 1100 California N.E., Socorro, New Mexico 87801. There will be an optional all day field trip on Wednesday, January 24, 2001. Transportation will be provided for RAC members. The optional field trip will be organized by the Socorro Field Office of the BLM. The Field Tour will leave from the Holiday Inn Express at 8:00 a.m. The first stop will be The Box Special Management Area to visit the renowned rock climbing recreation area. Significant use has led the Socorro Field Office to enter into an extensive contracted cultural survey that will test, record, and mitigate significant cultural properties that are currently threatened by recreational users. There will follow a stop at Datil Well Campground before seeing the Horse Mountain urban interface hazardous fuels reduction project. Socorro Field Office is dedicated to protecting the sensitive natural resources within the Wildlife Study Area, and to protecting the rural homeowners in the area from potential catastrophic wildfire. The tour will proceed to Pelona Mountain to see how prescribed fire projects over the last seven or eight years minimized potentially catastrophic effects that were likely to have been evident during this summer's 32,000 acre Chance wildfire. Land exchange consolidation efforts and easement acquisitions will also be viewed along the way as will issues relative to access along a current powerline. The last stop will be at the Kellogg Canyon watershed project in which BLM and the USFS have worked cooperatively to complete fire and watershed restoration projects. Those interested may continue on to the proposed site of the Camino Real International Heritage Center and the Bosque del Apache Wildlife Refuge to see the birds return at dusk. In case of bad weather, there is an alternate plan for the tour. The meeting on Thursday, January 25, 2001, will start at 8:00 a.m. and will end about 5:00 p.m. The draft agenda for the RAC meeting includes agreement on the meeting agenda, any RAC comments on the draft minutes of the last RAC meeting on October 11 through 13, 2001, in Silver City, New Mexico, and a check-in from the RAC members. The focus of the meeting will be on all aspects of wildfire. Presentations will include discussion. Invited speakers are: Dr. Carl Edminster of the Rocky Mountain Research Station in Flagstaff, Arizona; Doug Boykin, District Forester with New Mexico Forestry and Resources Conseration Division in Socorro; Brad Vierra, President, New Mexico Archaeological Council; Tom Swetnam of the Tree Ring Laboratory at the University of Arizona; Bob Lee, Fire Management Officer, of the New Mexico State Office of the BLM, and Dave Heft, Wildlife Biologist and Dan Huisjen, Fire Management Officer, of the Socorro BLM Field Office.

The three established RAC Subcommittees may have late afternoon or evening meetings on Wednesday, January 24, after the optional field trip, or on Thursday, January 25, after the meeting. The exact time and location of possible Subcommittee meetings will be established by the Chairperson of each Subcommittee and be available to the public following the field trip on Wednesday, January 24, and during the RAC meeting on Thursday, January 25, for that evening. That information will also be available at the desk of the Holiday Inn Express on those two days. On Friday, January 26, the meeting starts at 8:00 a.m. and will end about 3:00 pm. The ending time of 3:00 p.m. may be changed depending on the work remaining for the RAC. The meeting is open to the public, and starting at 2:45 p.m. on Thursday, January 25, 2001, there will be an additional 15 minute Public Comment Period for members of the public who are not able to be present for the regular Public Comment Period on Friday, January 26, to address the RAC. The meeting on Friday, January 26, will start at 8:00 a.m. with a review of the agenda thus far. At 8:15 a.m. are scheduled RAC Subcommittee Reports from the Urban and Open Space Subcommittee, the Roads and Trails Subcommittee, and the Oil and Gas Subcommittee. The regular Public Comment Period for the Public to address the RAC is on Friday, January 26, 2001, from 10:00 a.m. to 12:00 noon. The RAC may reduce or extend the end time of 12:00 noon depending on the number of people wishing to address the RAC. Anyone wishing to address the RAC should be present at the 10:00 a.m. starting time. The length of time available for each person to address the RAC will be established at the start of the public comment period and will depend on how many people wish to address the RAC, but usually not more than 15 minutes. At the completion of public comments, the RAC may continue discussion on its agenda items. Scheduled at 1:00 p.m. are the BLM State of the Field Office Reports, presented by the Field Office Managers.

These reports are followed by RAC discussions and any RAC recommendations, development of draft agenda items, selection of a location for the next RAC meeting and a RAC assessment of the current meeting.

FOR FURTHER INFORMATION CONTACT: Mary White, New Mexico State Office, Office of External Affairs, Bureau of Land Management, 1474 Rodeo Road, P.O. Box 27115, Santa Fe, New Mexico 87502-0115, telephone (505) 438-7404.

SUPPLEMENTARY INFORMATION: The purpose of the Resource Advisory Council is to advise the Secretary of the Interior, through the BLM, on a variety of planning and management issues associated with the management of public lands. The Council's responsibilities include providing advice on long-range planning, establishing resource management priorities and assisting the BLM to identify State and regional standards for rangeland health and guidelines for grazing management.

Dated: October 31, 2000.
M.J. Chávez,
State Director.

[FR Doc. 00-28365 Filed 11-3-00; 8:45 am]

BILLING CODE 4310-FB-M